DEPARTMENT OF TRANSPORTATION

Federal Aviation Administration

14 CFR Part 39

[Docket No. 2000-CE-42-AD]

RIN 2120-AA64

Airworthiness Directives; Raytheon Aircraft Company Beech Model 58 Airplanes

AGENCY: Federal Aviation Administration, DOT.

ACTION: Notice of proposed rulemaking (NPRM).

SUMMARY: This document proposes to adopt a new airworthiness directive (AD) that would apply to certain Raytheon Aircraft Company (Raytheon) Beech Model 58 airplanes. The proposed AD would require you to inspect the rudder bellcrank interconnect tube for damage; replace or refinish the interconnect tube, if necessary; and modify the floorboard. Four reports of damage to the interconnect tube prompted the proposed action. The actions specified by the proposed AD are intended to correct the wrong use of screws and consequent wear in the pilot/copilot pedal interconnect tube, which could result in loss of rudder control.

DATES: The Federal Aviation Administration (FAA) must receive any comments on this proposed rule on or before October 11, 2000.

ADDRESSES: Send comments in triplicate to the Federal Aviation Administration (FAA), Central Region, Office of the Regional Counsel, Attention: Rules Docket No. 2000-CE-42-AD, 901 Locust, Room 506, Kansas City, Missouri 64106. You may look at comments at this location between 8 a.m. and 4 p.m., Monday through Friday, except holidays.

You may get the service information referenced in the proposed AD from Raytheon Aircraft Company, P.O. Box 85, Wichita, Kansas 67201-0085; telephone: (800) 429-5372 or (316) 676-3140; on the Internet at <http://www.raytheon.com/rac/servinfo/27-3013.pdf>. This file is in Adobe Portable Document Format. The Acrobat Reader is available at <http://www.adobe.com/>. You may read this information at the Rules Docket at the address above.

FOR FURTHER INFORMATION CONTACT: Paul C. DeVore, Aerospace Engineer, FAA, Wichita Aircraft Certification Office, 1801 Airport Road, Mid-Continent Airport, Wichita, Kansas 67209; telephone: (316) 946-4142; facsimile: (316) 946-4407.

SUPPLEMENTARY INFORMATION:

Comments Invited

How do I comment on this proposed AD? We invite your comments on the proposed rule. You may send whatever written data, views, or arguments you choose. You need to include the rule's docket number and submit your comments in triplicate to the address specified under the caption ADDRESSES. We will consider all comments received on or before the closing date specified above, before acting on the proposed rule. We may change the proposals contained in this notice in light of the comments received.

Are there any specific portions of the proposed AD I should pay attention to? The FAA specifically invites comments on the overall regulatory, economic, environmental, and energy aspects of the proposed rule that might necessitate a need to modify the proposed rule. You may examine all comments we receive. We will file a report in the Rules Docket that summarizes each FAA contact with the public that concerns the substantive parts of this proposal.

The FAA is reexamining the writing style we currently use in regulatory documents, in response to the Presidential memorandum of June 1, 1998. That memorandum requires federal agencies to communicate more clearly with the public. We are interested in your comments on the ease of understanding this document, and any other suggestions you might have to improve the clarity of FAA communications that affect you. You can get more information about the Presidential memorandum and the plain language initiative at http://www.faa.gov/language/.

How can I be sure FAA receives my comment? If you want us to acknowledge the receipt of your comments, you must include a self-addressed, stamped postcard. On the postcard, write “Comments to Docket No. 2000-CE-42-AD.” We will date stamp and mail the postcard back to you.

Discussion

What events have caused this proposed AD? The FAA has received four reports of grooves cut in the pilot/copilot rudder interconnect tube. The grooves were discovered during routine inspections.

What are the consequences if the condition is not corrected? This condition could result in jamming or restricting rudder control. Raytheon has issued a mandatory service bulletin affecting these Model 58 Baron airplanes:

—Serial TH-1389; and

—Serials TH-1396 through TH-1885

Relevant Service Information

What service information applies to this subject? Raytheon has issued Mandatory Service Bulletin SB 27-3013, Issued: June 2000.

What are the provisions of this service bulletin? The service bulletin describes procedures for inspecting the rudder bellcrank interconnect tube, modifying the floorboard, and refinishing or replacing the interconnect tube.

The FAA's Determination and an Explanation of the Provisions of the Proposed AD

What has FAA decided? After examining the circumstances and reviewing all available information related to the incidents described above, we have determined that:

—The unsafe condition referenced in this document exists or could develop on other Raytheon Beech Model 58 airplanes of the same type design;

—These airplanes should have the actions specified in the above service bulletin incorporated; and

—The FAA should take AD action in order to correct this unsafe condition.

What does this proposed AD require? This proposed AD would require you to:

—Inspect the rudder bellcrank interconnect tube for damage;

—If necessary, replace or refinish the rudder bellcrank interconnect tube; and

—Plug the floorboard screw hole.

What are the differences between the service bulletin and the proposed AD? Raytheon requires you to inspect and, if necessary, replace or refinish the rudder bellcrank interconnect tube, and plug the floorboard screw hole, as soon as possible after receipt of the Service Bulletin, but no later than the next scheduled 100 hour or annual inspection. We propose a requirement that you plug the floorboard screw hole, inspect and, if necessary, replace or refinish the rudder bellcrank interconnect tube within the next 6 calendar months after the effective date of the proposed AD. We believe that 6 calendar months will give the owners/operators of the affected airplanes enough time to have the proposed actions done without compromising the safety of the airplanes.

Cost Impact

How many airplanes does this proposed AD impact? We estimate that the proposed AD would affect 491 airplanes in the U.S. registry.

What is the cost impact of the proposed action for the affected airplanes on the U.S. Register? We estimate that it would take approximately 4 workhours per airplane to do the proposed modification of the floorboard and proposed inspection of the rudder bellcrank interconnect tube, at an average labor rate of $60 an hour. Based on the cost factors presented above, we estimate that the total cost impact of the proposed modification and inspection on U.S. operators is $117,840, or $240 per airplane.

We estimate it would take 1 hour to either replace or refinish the rudder bellcrank interconnect tube. Based on the cost factors presented above, we estimate that the total cost impact of replacing or refinishing the interconnect tube on U.S. operators is $60 per airplane.

The manufacturer will allow warranty credit for labor and parts to the extent noted in the service bulletin.

These figures only take into account the costs of the proposed initial inspection and do not take into account the cost of replacement parts that you might require because of the initial inspection.

Regulatory Impact

Does this AD impact relations between Federal and State governments? The proposed regulations would not have substantial direct effects on the States, on the relationship between the national government and the States, or on the distribution of power and responsibilities among the various levels of government. We have determined that this proposed rule would not have federalism implications under Executive Order 13132.

Does this AD involve a significant rule or regulatory action? For the reasons discussed above, I certify that this action (1) is not a “significant regulatory action” under Executive Order 12866; (2) is not a “significant rule” under Department of Transportation Regulatory Policies and Procedures (44 FR 11034, February 26, 1979); and (3) if put into effect, will not have a significant economic impact, positive or negative, on a substantial number of small entities under the criteria of the Regulatory Flexibility Act. We have placed a copy of the draft regulatory evaluation prepared for this action in the Rules Docket. You may obtain a copy of it by contacting the Rules Docket at the location provided under the caption ADDRESSES.

List of Subjects in 14 CFR Part 39

Air transportation, Aircraft, Aviation safety, Safety.

The Proposed Amendment

Accordingly, under the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends Section 39.13 by adding a new airworthiness directive (AD) to read as follows:

Raytheon Aircraft Company: Docket No. 2000-CE-42-AD.

(a) What airplanes are affected by this AD? Beech Model 58 airplanes, serial numbers TH-1389, and TH-1396 through TH-1885, certificated in any category.

(b) Who must comply with this AD? Anyone who wishes to operate any of the above airplanes on the U.S. Register must comply with this AD.

(c) What problem does this AD address? The actions specified by this AD are intended to correct the wrong use of screws and consequent wear in the pilot/copilot pedal interconnect tube, which could result in loss of rudder control.

(d) What must I do to address this problem? To address this problem, you must do the following actions:

Actions | Compliance times | Procedures
(1) Inspect the rudder bellcrank interconnect tube for damage and ensure the floorboard panel screws are ¾ inch or less in length. Screws that are longer than ¾ inch in length can damage parts installed immediately below the floorboards | Inspect within the next 6 calendar months after the effective date of this AD | Do this inspection in accordance with the ACCOMPLISHMENT INSTRUCTIONS paragraph of Raytheon Mandatory Service Bulletin SB 27-3013, Issued: June 2000, and the Baron Model 58 Shop Manual.
(2) If you find no damage to the rudder bellcrank interconnect tube, if longer than ¾ inch, discard the screw from the center screw hole position | Do all follow-on actions, such as replacement or repair, before further flight after the inspection. | Do these actions in accordance with the ACCOMPLISHMENT INSTRUCTIONS paragraph of Raytheon Mandatory Service Bulletin SB 27-3013, Issued: June 2000, and the Baron 58 Shop Manual
(3) If you find damage to the rudder bellcrank interconnect tube, and the damage has not worn into the aluminum interconnect tube, refinish the interconnect tube
(4) If you find damage to the rudder bellcrank interconnect tube, and the damage has worn into the aluminum interconnect tube, you must replace the interconnect tube
(5) Plug the floorboard screw hole

(e) Can I comply with this AD in any other way? You may use an alternative method of compliance or adjust the compliance time if:

(1) Your alternative method of compliance provides an equivalent level of safety; and

(2) The Manager, Wichita Aircraft Certification Office (ACO), approves your alternative. Send your request through an FAA Principal Maintenance Inspector, who may add comments and then send it to the Manager, Wichita ACO.

Note: This AD applies to each airplane identified in paragraph (a) of this AD, regardless of whether it has been modified, altered, or repaired in the area subject to the requirements of this AD. For airplanes that have been modified, altered, or repaired so that the performance of the requirements of this AD is affected, the owner/operator must request approval for an alternative method of compliance in accordance with paragraph (e) of this AD. You should include in the request an assessment of the effect of the modification, alteration, or repair on the unsafe condition addressed by this AD; and, if you have not eliminated the unsafe condition, specific actions you propose to address it.

(f) Where can I get information about any already-approved alternative methods of compliance? Contact Paul C. DeVore, Aerospace Engineer, FAA, Wichita Aircraft Certification Office, 1801 Airport Road, Mid-Continent Airport, Wichita, Kansas 67209; telephone: (316) 946-4142; facsimile: (316) 946-4407.

(g) What if I need to fly the airplane to another location to comply with this AD? The FAA can issue a special flight permit under sections 21.197 and 21.199 of the Federal Aviation Regulations (14 CFR 21.197 and 21.199) to operate your airplane to a location where you can do the requirements of this AD.

(h) How do I get copies of the documents referenced in this AD? You may get the service information referenced in the AD from Raytheon Aircraft Company, P.O. Box 85, Wichita, Kansas 67201-0085; telephone: (800) 429-5372 or (316) 676-3140; or on the Internet at <http://www.raytheon.com/rac/ servinfo/27-3013.pdf>. This file is in Adobe Portable Document Format. The Acrobat Reader is available at <http://www.adobe.com/>. You may read this document at FAA, Central Region, Office of the Regional Counsel, 901 Locust, Room 506, Kansas City, Missouri 64106.

Issued in Kansas City, Missouri, on August 31, 2000.
Carolanne L. Cabrini,
Acting Manager, Small Airplane Directorate, Aircraft Certification Service.

[FR Doc. 00-22909 Filed 9-6-00; 8:45 am]

BILLING CODE 4910-13-P